ENVIRONMENTAL PROTECTION AGENCY

[EPA-HQ-OARM-2007-0341; EPA-HQ-OARM-2007-0342; FRL-8305-9]

Agency Information Collection Activities; Proposed Collection; Comment Request; Conflict of Interest Rule #1, EPA ICR Number 1550.06, OMB Control Number 2030-0023; and Invitation for Bids and Request for Proposals (IFBs and RFPs), EPA ICR Number 1038.11, OMB Control Number 2030-0006

AGENCY: Environmental Protection Agency (EPA).

ACTION: Notice.

SUMMARY: In compliance with the Paperwork Reduction Act (PRA) (44 U.S.C. 3501 et seq.), this document announces that EPA is planning to submit a request to renew existing approved Information Collection Requests (ICRs) to the Office of Management and Budget (OMB). These ICRs are scheduled to expire on 07/31/2007. Before submitting the ICRs to OMB for review and approval, EPA is soliciting comments on specific aspects of the proposed information collections as described below.

DATES: Comments must be submitted on or before June 25, 2007.

ADDRESSES: Submit your comments, identified by the Docket ID numbers provided for each item in the text, by one of the following methods:

• http://www.regulations.gov: Follow the on-line instructions for submitting comments.

• E-mail: oei.docket@epa.gov.

• Mail: OEI Docket, Environmental Protection Agency, Mailcode: 28221T, 1200 Pennsylvania Ave., NW., Washington, DC 20460.

• Hand Delivery: EPA Docket Center, Environmental Protection Agency, OEI Docket, EPA/DC, EPA West, Room B102, 1301 Constitution Ave., NW., Washington, DC. Such deliveries are only accepted during the Docket's normal hours of operation, and special arrangements should be made for deliveries of boxed information.

Instructions: Direct your comments to the Docket ID number provided for each item in the text. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Tiffany Schermerhorn, Policy, Training and Oversight Division, Office of Acquisition Management, Mail Code 3802R, Environmental Protection Agency, 1200 Pennsylvania Ave., NW., Washington, DC 20460; e-mail address: schermerhorn.tiffany@epa.gov, telephone (202) 564-9902.

SUPPLEMENTARY INFORMATION:

How Can I Access the Docket and/or Submit Comments?

EPA has established a public docket for each of the ICRs identified in this document (see the Docket ID numbers for each ICR that is provided in the text), which is available for online viewing at http://www.regulations.gov, or in person viewing at the OEI Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744 and the telephone number for the OEI Docket is 202-566-1752.

Use http://www.regulations.gov to obtain a copy of the draft collection of information, submit or view public comments, access the index listing of the contents of the docket, and to access those documents in the public docket that are available electronically. Once in the system, select “search,” then key in the Docket ID number identified in this document.

What Information Is EPA Particularly Interested In?

Pursuant to Section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25 employees) for examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the Docket ID number assigned to this action in the subject line on the first page of your response. You may also provide the name, date, and Federal Register citation.

What Information Collection Activities or ICRs Does This Apply To?

[Docket ID No. EPA-HQ-OARM-2007-0341]

Affected entities: Entities potentially affected by this action are those businesses or organizations performing contracts for the Agency.

Title: Conflict of Interest, Rule #1.

ICR numbers: EPA ICR No. 1550.06, OMB Control No. 2030-0023.

ICR status: This ICR is currently scheduled to expire on 07/31/07. An Agency may not conduct or sponsor, and a person is not required to respond to, a collection of information, unless it displays a currently valid OMB control number. The OMB control numbers for EPA's regulations in Title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: EPA contractors will be required to disclose business relationships and corporate affiliations to determine whether EPA's interests are jeopardized by such relationships. Because EPA has the dual responsibility of cleanup and enforcement and because its contractors are often involved in both activities, it is imperative that contractors are free from conflicts of interest so as not to prejudice response and enforcement actions. Contractors will be required to maintain a database of business relationships and report information to EPA on either an annual basis or when each work order is issued.

Burden Statement: The annual public reporting and recordkeeping burden for this collection of information is estimated to average 1,078 hours per response. Burden means the total time, effort, or financial resources expended by persons to generate, maintain, retain, or disclose or provide information to or for a Federal agency. This includes: the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 135.

Frequency of response: On occasion.

Estimated total annual burden hours: 145,640.

Estimated total annual costs: $8,144,585. This includes an estimated burden cost of $8,144,585 and an estimated cost of $0 for capital investment or maintenance and operational costs.

Are There Changes in the Estimates From the Last Approval?

Although the number of respondents has increased since the ICR was last renewed and approved by OMB in 2004, the total annual burden hours and annual costs are not expected to increase. The number of respondents has increased due to a need to include non-Superfund as well as Superfund contractors in our information collection activities related to conflicts of interest. While this ICR was initiated due to the need to ensure that contractors supporting work under the Comprehensive Environmental Response, Compensation, and Liability Act of 1980 (CERCLA), commonly known as “Superfund,” are free from conflict so as not to prejudice CERCLA actions, it has become clear in the past few years that the potential for conflict is not limited to contracts supporting Superfund activities, but includes all Agency contracts involving support of regulatory activities. Other environmental laws besides Superfund that give the Agency the authority for its programs and regulatory activities include, but are not limited to, the Clean Water Act (CWA); Safe Drinking Water Act (SDWA); Marine Protection, Research and Sanctuary Act (MPRSA); Clean Air Act (CAA); Resource Conservation and Recovery Act (RCRA); Oil Pollution Act (OPA); Pollution Prevention Act (PPA); Federal Insecticide, Fungicide and Rodenticide Act (FIFRA); Superfund Reauthorization and Amendments Act (SARA); Toxic Substance Control Act (TSCA); Federal Facility Compliance Act (FFCA); National Environmental Policy Act (NEPA); Emergency Planning and Community Right-to-Know Act (EPCRA); Comprehensive Environmental Response, Asbestos Hazard Emergency Response Act (AHERA); and the Mercury-Containing and Rechargeable Battery Management Act (Battery Act). Despite the increase in the number of respondents, the total annual burden hours are not expected to increase because this is an established information collection effort and most of the respondents are engaged primarily in the recurring maintenance and reporting activities rather than the one-time activities of greater burden that were necessary when the ICR was initiated. Also, the processes for storing, retrieving, and reporting information on a recurring basis have been streamlined in recent years through greater use of electronic methods.

[Docket ID No. EPA-HQ-OARM-2007-0342]

Affected entities: Entities potentially affected by this action are those businesses or organizations that want to provide the EPA with supplies or services.

Title: Invitation for Bids and Request for Proposals.

ICR numbers: EPA ICR No. 1038.11, OMB Control No. 2030-0006.

ICR status: This ICR is currently scheduled to expire on 07/31/07. An Agency may not conduct or sponsor, and a person is not required to respond to, a collection of information, unless it displays a currently valid OMB control number. The OMB control numbers for EPA's regulations in Title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: EPA requires contractors to submit information in order to be considered for the award of a contract. Information requested includes: prices for the supplies/services requested, information on past performance, technical and cost information, and general financial and organizational information. Information provided by vendors in response to an RFP/IFB is used to evaluate which vendor will provide the best product in terms of quality, timeliness and price. Responses to IFBs/RFPs are required to be considered for a contract award. The legal authority for this collection is 41 U.S.C. 253. Contractor confidential business information submitted in connection with an IFB or RFP response is protected from public release in accordance with 40 CFR 2.201 et seq.

Burden Statement: The annual public reporting and recordkeeping burden for this collection of information is estimated to average 8 hours per response for IFBs and 251 hours per response for RFPs. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 981.

Frequency of response: On occasion.

Estimated total annual burden hours: 219,015.

Estimated total annual costs: $14,251,635. This includes an estimated burden cost of $14,251,635 and an estimated cost of $0 for capital investment or maintenance and operational costs.

What Is the Next Step in the Process for These ICRs?

EPA will consider the comments received and amend the ICRs as appropriate. The final ICR packages will then be submitted to OMB for review and approval pursuant to 5 CFR 1320.12. At that time, EPA will issue another Federal Register notice pursuant to 5 CFR 1320.5(a)(1)(iv) to announce the submission of the ICRs to OMB and the opportunity to submit additional comments to OMB. If you have any questions about this ICR or the approval process, please contact the technical person listed under FOR FURTHER INFORMATION CONTACT.

Dated: April 19, 2007.
Daniel Humphries,
Acting Manager, Acquisition Policy and Training Service Center.

[FR Doc. E7-7894 Filed 4-24-07; 8:45 am]

BILLING CODE 6560-50-P